DEPARTMENT OF LABOR

Employment and Training Administration

[TA-W-37, 063 and NAFTA-3605]

Kellogg Company, South Operations Plant, Battle Creek, Michigan; Notice of Affirmative Determination Regarding Application for Reconsideration

By letter of March 8, 2000, Local #3 of the Bakery, Confectionery, Tobacco Workers and Grain Millers International Union requested administrative reconsideration of the Department of Labor's Notice of Negative Determination Regarding Eligibility to Apply for Worker Adjustment Assistance and North American Free Trade Agreement-Transitional Adjustment Assistance for workers of the subject firm. The notices were signed on February 10, 2000, and will soon be published in the Federal Register.

The Department has reviewed the Union's request and has determined that further investigation regarding the Union's assertions regarding the effects of a transfer of production equipment to Mexico is warranted.

Conclusion

After careful review of the application, I conclude that the claim is of sufficient weight to justify reconsideration of the Department of Labor's prior decision. The application is, therefore, granted.

Signed at Washington, DC this 21st day of March 2000.
Grant D. Beale,
Program Manager, Division of Trade Adjustment Assistance.

[FR Doc. 00-7982 Filed 3-30-00; 8:45 am]

BILLING CODE 4510-30-M